DEPARTMENT OF ENERGY

Federal Energy Regulatory Commission

[Docket No. RP04-43-001]

Southern LNG Inc.; Notice of Tariff Filing

November 13, 2003.

Take notice that on November 7, 2003, Southern LNG Inc. (SLNG) tendered for filing as part of its FERC Gas Tariff, Original Volume No. 1, the following tariff sheets, with an effective date of December 1, 2003:

Substitute Seventh Revised Sheet No. 5

Substitute Seventh Revised Sheet No. 6

SLNG states that the substitute sheets replace revised sheets filed on October 31, 2003, that incorrectly totaled the additional charges and surcharges. SLNG further states that the substitute sheets lower the totals, correct the error, and have the same effective date as the sheets filed on October 31, 2003 and therefore, SLNG withdraws the revised sheets, files substitute sheets to lower the totals, and requests a waiver of the 30-day notice requirement.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00326 Filed 11-20-03; 8:45 am]

BILLING CODE 6717-01-P